DEPARTMENT OF TRANSPORTATION

Federal Railroad Administration

Petition for Waiver of Compliance

In accordance with Part 211 of Title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

Akron Barberton Cluster Railway

[Waiver Petition Docket Number FRA-2010-0144]

The Akron Barberton Cluster Railway (ABC) seeks a waiver of compliance from certain provisions of the Federal hours of service law (49 U.S.C. Chapter 211; HSL). Specifically, ABC requests relief from 49 U.S.C. 21103(a)(4), which states that a train employee may not be required, allowed to remain, or go on duty after that employee has initiated an on-duty period each day for 6 consecutive days unless that employee has had at least 48 hours off duty at the employee's home terminal.

ABC currently has eight train and engine service employees who typically work three assignments commencing at either 5 a.m., 6 a.m., or 7 a.m. Each assignment consists of 5 days in duration and averages 7 hours on duty. Specifically, the schedules include a Monday through Friday shift beginning at 5 a.m.; a Sunday through Thursday shift beginning at 6 a.m.; and a Tuesday through Saturday shift beginning at 7 a.m. The employees have set hours, set days off and do not layover at away from their home locations. ABC is requesting that employees may work 6 consecutive days followed by 24 hours off duty. ABC included with its waiver request, documentation indicating that its employees unanimously support its request for relief. ABC's entire petition may be viewed at http://www.regulations.gov under the docket number listed above.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2010-0144) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC, on September 28, 2010.
Robert C. Lauby
Deputy Associate Administrator for Regulatory and Legislative Operations.

[FR Doc. 2010-24998 Filed 10-4-10; 8:45 am]

BILLING CODE 4910-06-P